DEPARTMENT OF HEALTH AND HUMAN SERVICES

National Institutes of Health

Submission for OMB Review; 30-Day Comment Request; Generic Clearance To Conduct Voluntary Customer/Partner Surveys (NLM)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: contact: David Sharlip, National Library of Medicine, Building 38A, Room B2N12, 8600 Rockville Pike, Bethesda, MD 20894, or call non-toll-free number 301-827-6361 or email your request to sharlipd@mail.nih.gov.

SUPPLEMENTARY INFORMATION: This proposed information collection was previously published in the Federal Register on July 20, 2018, pages 34599-34600 (83 FR 34599-34600) and allowed 60 days for public comment. NLM received one comment in response to the 60-Day Federal Register Notice. The purpose of this notice is to allow an additional 30 days for public comment. The National Library of Medicine (NLM), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance to Conduct Voluntary Customer/Partner Surveys (NLM), 0925-0476, Expiration Date 09/30/2018, REINSTATEMENT WITHOUT CHANGE, National Library of Medicine (NLM), National Institutes of Health (NIH).

Need and Use of Information Collection: In 1994, the NLM was designated a “Federal Reinvention Laboratory” with a major objective of improving its methods of delivering information to the public. At a minimum, necessary elements in improving the delivery of information include: (1) Development of easy-to-use access and delivery mechanisms that promote the public's understanding of health information, drawing on research in lay terminology, graphical and multimedia presentations; (2) assisting those providing health information to the public to make effective use of electronic services through internet connections, training, and other means, with an emphasis on those serving minority groups, low income populations, and seniors; (3) promoting integrations of NLM services with other electronic services covering regional, state, or local health information; and (4) conducting and supporting research, development, and evaluation of the public's health information needs, information seeking behavior and learning styles, information systems that meet the public's needs, and the impact of access to information.

OMB approval is requested for 3 years. There are no costs to respondents other than their time. The total estimated annualized burden hours are 750.

Estimated Annualized Burden Hours
Table A.12-1 Estimates of Annual Burden Hours: Type of collection | Table A.12-1 Estimates of Annual Burden Hours: Type of respondents | Table A.12-1 Estimates of Annual Burden Hours: Number of respondents | Table A.12-1 Estimates of Annual Burden Hours: Annual frequency per response | Table A.12-1 Estimates of Annual Burden Hours: Average time per response (minutes/hour) | Table A.12-1 Estimates of Annual Burden Hours: Total burden hours
Customer Satisfaction Surveys | General Public | 1,000 | 1 | 20/60 | 333
Focus Groups | Health Professionals | 500 | 1 | 15/60 | 125
Usability and Pilot Testing | Librarians | 500 | 1 | 20/60 | 167
Interviews or Small Discussion Groups | Health Educators | 500 | 1 | 15/60 | 125
Total |  | 2,500 | 2,500 |  | 750

Dated: September 21, 2018.
David H. Sharlip,
Project Clearance Liaison, National Library of Medicine, National Institutes of Health.

[FR Doc. 2018-21818 Filed 10-5-18; 8:45 am]

BILLING CODE 4140-01-P